DEPARTMENT OF COMMERCE

International Trade Administration

[A-570-967]

Aluminum Extrusions From the People's Republic of China: Preliminary Results of Antidumping Duty Administrative Review and Rescission of Review in Part; 2014-2015

AGENCY: Enforcement and Compliance, International Trade Administration, Department of Commerce.

SUMMARY: The Department of Commerce (the Department) is conducting an administrative review of the antidumping duty order on aluminum extrusions from the People's Republic of China (PRC).¹ The period of review (POR) is May 1, 2014 through April 30, 2015. These preliminary results cover 175 companies for which an administrative review was initiated.² The Department selected the following companies as mandatory respondents: Guangzhou Jangho Curtain Wall System Engineering Co., Ltd. and Jangho Curtain Wall Hong Kong Ltd. (collectively, Jangho) and Guang Ya Aluminium Industries Co., Ltd., Foshan Guangcheng Aluminium Co., Ltd., Kong Ah International Company Limited, and Guang Ya Aluminium Industries (Hong Kong) Ltd. (collectively, Guang Ya Group); Guangdong Zhongya Aluminium Company Limited, Zhongya Shaped Aluminium (HK) Holding Limited, and Karlton Aluminum Company Ltd. (collectively, Zhongya); and Xinya Aluminum & Stainless Steel Product Co., Ltd. (Xinya) (collectively, Guang Ya Group/Zhongya/Xinya).³ The Department preliminarily determines that Jangho and Guang Ya Group/Zhongya/Xinya failed to cooperate by not acting to the best of their abilities to fully comply with the Department's requests for information, warranting the application of facts otherwise available with adverse inferences, pursuant to sections 776(a) and 776(b) of the Tariff Act of 1930, as amended (the Act). We also preliminarily determine that two companies, Xin Wei Aluminum Company Limited (Xin Wei) and Permasteelisa Hong Kong Limited, had no shipments. If these preliminary results are adopted in the final results of this review, we will instruct U.S. Customs and Border Protection (CBP) to assess antidumping duties on all appropriate entries. Interested parties are invited to comment on these preliminary results.

¹ The Department initiated this review on July 1, 2015. See Initiation of Antidumping and Countervailing Duty Administrative Reviews, 80 FR 37588 (July 1, 2015) (Initiation Notice).

² Id., 80 FR at 37590-37593.

³ In prior segments of this proceeding, the Department found that Guang Ya Group, Zhongya, and Xinya were affiliated with each other and should be treated as a single entity. See, e.g., Aluminum Extrusions From the People's Republic of China: Final Results of Antidumping Duty Administrative Review and Rescission, in Part, 2010/12, 79 FR 96 (January 2, 2014) (2010-2012 Final Results); Aluminum Extrusions From the People's Republic of China: Final Results of Antidumping Duty Administrative Review; 2012-2013, 79 FR 78784 (December 31, 2014) (2012-2013 Final Results); and Aluminum Extrusions From the People's Republic of China: Final Results of Antidumping Duty Administrative Review; 2013-2014, 80 FR 75060 (December 1, 2015) (2013-2014 Final Results).

DATES: Effective Date: June 14, 2016.

FOR FURTHER INFORMATION CONTACT: Deborah Scott, Mark Flessner or Robert James, AD/CVD Operations, Office VI, Enforcement and Compliance, International Trade Administration, Department of Commerce, 1401 Constitution Avenue NW., Washington, DC 20230; telephone: (202) 482-2657, (202) 482-6312 or (202) 482-0649, respectively.

SUPPLEMENTARY INFORMATION:

Scope of the Order

The merchandise covered by the Order ⁴ is aluminum extrusions which are shapes and forms, produced by an extrusion process, made from aluminum alloys having metallic elements corresponding to the alloy series designations published by The Aluminum Association commencing with the numbers 1, 3, and 6 (or proprietary equivalents or other certifying body equivalents).⁵

⁴ See Aluminum Extrusions from the People's Republic of China: Antidumping Duty Order, 76 FR 30650 (May 26, 2011) (Order).

⁵ See Memorandum from Christian Marsh, Deputy Assistant Secretary for Antidumping and Countervailing Duty Operations to Paul Piquado, Assistant Secretary for Enforcement and Compliance, “Decision Memorandum for Preliminary Results of Antidumping Duty Administrative Review: Aluminum Extrusions from the People's Republic of China; 2014-2015,” dated concurrently with this notice (Preliminary Decision Memorandum) for a complete description of the scope of the Order.

Imports of the subject merchandise are provided for under the following categories of the Harmonized Tariff Schedule of the United States (HTSUS): 8424.90.9080, 9405.99.4020, 9031.90.90.95, 7616.10.90.90, 7609.00.00, 7610.10.00, 7610.90.00, 7615.10.30, 7615.10.71, 7615.10.91, 7615.19.10, 7615.19.30, 7615.19.50, 7615.19.70, 7615.19.90, 7615.20.00, 7616.99.10, 7616.99.50, 8479.89.98, 8479.90.94, 8513.90.20, 9403.10.00, 9403.20.00, 7604.21.00.00, 7604.29.10.00, 7604.29.30.10, 7604.29.30.50, 7604.29.50.30, 7604.29.50.60, 7608.20.00.30, 7608.20.00.90, 8302.10.30.00, 8302.10.60.30, 8302.10.60.60, 8302.10.60.90, 8302.20.00.00, 8302.30.30.10, 8302.30.30.60, 8302.41.30.00, 8302.41.60.15, 8302.41.60.45, 8302.41.60.50, 8302.41.60.80, 8302.42.30.10, 8302.42.30.15, 8302.42.30.65, 8302.49.60.35, 8302.49.60.45, 8302.49.60.55, 8302.49.60.85, 8302.50.00.00, 8302.60.90.00, 8305.10.00.50, 8306.30.00.00, 8414.59.60.90, 8415.90.80.45, 8418.99.80.05, 8418.99.80.50, 8418.99.80.60, 8419.90.10.00, 8422.90.06.40, 8473.30.20.00, 8473.30.51.00, 8479.90.85.00, 8486.90.00.00, 8487.90.00.80, 8503.00.95.20, 8508.70.00.00, 8515.90.20.00, 8516.90.50.00, 8516.90.80.50, 8517.70.00.00, 8529.90.73.00, 8529.90.97.60, 8536.90.80.85, 8538.10.00.00, 8543.90.88.80, 8708.29.50.60, 8708.80.65.90, 8803.30.00.60, 9013.90.50.00, 9013.90.90.00, 9401.90.50.81, 9403.90.10.40, 9403.90.10.50, 9403.90.10.85, 9403.90.25.40, 9403.90.25.80, 9403.90.40.05, 9403.90.40.10, 9403.90.40.60, 9403.90.50.05, 9403.90.50.10, 9403.90.50.80, 9403.90.60.05, 9403.90.60.10, 9403.90.60.80, 9403.90.70.05, 9403.90.70.10, 9403.90.70.80, 9403.90.80.10, 9403.90.80.15, 9403.90.80.20, 9403.90.80.41, 9403.90.80.51, 9403.90.80.61, 9506.11.40.80, 9506.51.40.00, 9506.51.60.00, 9506.59.40.40, 9506.70.20.90, 9506.91.00.10, 9506.91.00.20, 9506.91.00.30, 9506.99.05.10, 9506.99.05.20, 9506.99.05.30, 9506.99.15.00, 9506.99.20.00, 9506.99.25.80, 9506.99.28.00, 9506.99.55.00, 9506.99.60.80, 9507.30.20.00, 9507.30.40.00, 9507.30.60.00, 9507.90.60.00, and 9603.90.80.50.

The subject merchandise entered as parts of other aluminum products may be classifiable under the following additional Chapter 76 subheadings: 7610.10, 7610.90, 7615.19, 7615.20, and 7616.99, as well as under other HTSUS chapters. In addition, fin evaporator coils may be classifiable under HTSUS numbers: 8418.99.80.50 and 8418.99.80.60. While HTSUS subheadings are provided for convenience and customs purposes, the written description of the scope of this Order is dispositive.

Tolling of Deadline of Preliminary Results of Review

As explained in the memorandum from the Acting Assistant Secretary for Enforcement and Compliance, the Department has exercised its discretion to toll all administrative deadlines due to the recent closure of the Federal Government. All deadlines in this segment of the proceeding have been extended by four business days.⁶

⁶ See Memorandum for the Record from Ron Lorentzen, Acting Assistant Secretary for Enforcement and Compliance, “Tolling of Administrative Deadlines as a Result of the Government Closure during Snowstorm `Jonas,'” dated January 27, 2016.

Rescission of Administrative Review in Part

Pursuant to 19 CFR 351.213(d)(1), based on timely withdrawal of the requests for review, we are partially rescinding this administrative review with respect to 129 companies named in the Initiation Notice.⁷ See Appendix II for a full list of these companies.⁸

⁷ See Initiation Notice, 80 FR at 37590-37593.

⁸ See also the Preliminary Decision Memorandum for further details.

Separate Rates

In the Initiation Notice, we informed parties of the opportunity to request a separate rate.⁹ In proceedings involving non-market economy (NME) countries, the Department begins with a rebuttable presumption that all companies within the NME country are subject to government control and, thus, should be assigned a single weighted-average dumping margin. It is the Department's policy to assign all exporters of merchandise subject to an administrative review involving an NME country this single rate unless an exporter can demonstrate that it is sufficiently independent so as to be entitled to a separate rate. Companies that wanted to be considered for a separate rate in this review were required to timely file a separate-rate application or a separate-rate certification to demonstrate their eligibility for a separate rate. Separate-rate applications and separate-rate certifications were due to the Department within 30 calendar days of the publication of the Initiation Notice.

⁹ Id., 80 FR at 37589-37590.

In this review, 21 companies for which a review was requested and which remain under review did not submit separate-rate information to rebut the presumption that they are subject to government control.¹⁰ These companies are: Belton (Asia) Development Ltd.; Classic & Contemporary Inc.; Danfoss Micro Channel Heat Exchanger (Jia Xing) Co., Ltd.; Dongguan Golden Tiger Hardware Industrial Co., Ltd.; Ever Extend Ent. Ltd.; Fenghua Metal Product Factory; FookShing Metal & Plastic Co. Ltd.; Foshan Golden Source Aluminum Products Co., Ltd.; Global Point Technology (Far East) Limited; Gold Mountain International Development Limited; Golden Dragon Precise Copper Tube Group, Inc.; Hebei Xusen Wire Mesh Products Co., Ltd.; Jackson Travel Products Co., Ltd.; New Zhongya Aluminum Factory; Shanghai Automobile Air-Conditioner Accessories Co., Ltd.; Southwest Aluminum (Group) Co., Ltd.; Suzhou NewHongJi Precision Part Co., Ltd.; Union Aluminum (SIP) Co.; Whirlpool Canada L.P.; Whirlpool Microwave Products Development Ltd.; and Xin Wei Aluminum Co. As further discussed in the Preliminary Decision Memorandum,¹¹ we preliminarily determine that these entities have not demonstrated that they operate free from government control and thus are not eligible for a separate rate.

¹⁰ One company, Zhaoqing New Zhongya Aluminum Co., Ltd. (New Zhongya), was determined to have been succeeded by Guangdong Zhongya Aluminum Company Limited (Guangdong Zhongya) in a changed circumstances review. See Aluminum Extrusions From the People's Republic of China: Final Results of Changed Circumstances Review, 77 FR 54900 (September 6, 2012). Thus, despite the fact that a review was initiated of New Zhongya, it is not being included among these 21 companies because its successor in interest, Guangdong Zhongya, is part of the Guang Ya Group/Zhongya/Xinya single entity.

¹¹ See Memorandum from Christian Marsh, Deputy Assistant Secretary for Antidumping and Countervailing Duty Operations, to Paul Piquado, Assistant Secretary for Enforcement and Compliance, “Decision Memorandum for Preliminary Results of Antidumping Duty Administrative Review: Aluminum Extrusions from the People's Republic of China; 2014-2015,” dated concurrently with this notice.

Two additional companies that remain under review, Atlas Integrated Manufacturing Ltd. (Atlas) and Genimex Shanghai, Ltd. (Genimex), submitted separate-rate applications, but, as further discussed in the Preliminary Decision Memorandum, we preliminarily determine that these companies are not eligible for a separate rate.

In addition, nine companies still under review submitted separate-rate applications or separate-rate certifications and, where applicable, responses to supplemental questionnaires which provide sufficient information to preliminarily determine that they are entitled to a separate rate. These nine companies are: Allied Maker Limited; Birchwoods (Lin'an) Leisure Products Co., Ltd.; Changzhou Changzheng Evaporator Co., Ltd.; Dongguan Aoda Aluminum Co., Ltd.; JMA (HK) Company Limited; Kam Kiu Aluminium Products Sdn. Bhd.; Metaltek Group Co., Ltd.; Taishan City Kam Kiu Aluminium Extrusion Co., Ltd.; and Tianjin Jinmao Import & Export Corp., Ltd. A full discussion of the basis for granting these companies a separate rate can be found in the Preliminary Decision Memorandum.

Rate for Non-Examined Companies Which Are Eligible for a Separate Rate

The statute and the Department's regulations do not address the establishment of the rate applied to individual respondents not selected for individual examination when the Department limits its examination in an administrative review pursuant to section 777A(c)(2) of the Act. Generally, the Department looks to section 735(c)(5) of the Act, which provides instructions for calculating the all-others rate in an investigation, for guidance when calculating the rate for separate-rate respondents which we did not examine individually in an administrative review. Section 735(c)(5)(A) of the Act notes a preference that we are not to calculate an all-others rate using rates for individually-examined respondents which are zero, de minimis, or based entirely on facts available. Section 735(c)(5)(B) of the Act provides that, where all rates are zero, de minimis, or based entirely on facts available, the Department may use “any reasonable method” for assigning a rate to non-examined respondents.

In previous cases, the Department has determined that a reasonable method to use when the rates for respondents selected for individual examination are zero, de minimis, or based entirely on facts available is to assign non-examined respondents the average of the most recently-determined weighted-average dumping margins that are not zero, de minimis, or based entirely on facts available.¹² These rates may be from the investigation, a prior administrative review, or a new shipper review.

¹² See Narrow Woven Ribbons With Woven Selvedge from Taiwan; Final Results of Antidumping Duty Administrative Review; 2013-2014, 81 FR 22578 (April 18, 2016) and accompanying Issues and Decision Memorandum at Comment 1; see also Ball Bearings and Parts Thereof From France, Germany, Italy, Japan, and the United Kingdom: Final Results of Antidumping Duty Administrative Reviews and Rescission of Reviews in Part, 73 FR 52823, 52824 (September 11, 2008) and accompanying Issues and Decision Memorandum at Comment 16.

For these preliminary results, the rates we determined for the mandatory respondents were either zero, de minimis, or based entirely on facts available. Therefore, we preliminarily determine to apply a margin (that is not zero, de minimis, or based entirely on facts available) from the most recently-completed segment in this proceeding to the non-examined separate-rate companies. This determination is consistent with precedent ¹³ and the most reasonable method to determine the separate rate in the instant review. Pursuant to this method, we are preliminarily assigning the margin of 86.01 percent, the sole margin calculated in the immediately-preceding segment of this proceeding for the mandatory respondent and applied to the non-examined separate-rate respondents,¹⁴ to the non-examined separate-rate respondents in the instant review.

¹³ Id. This is also consistent with the Department's determination in prior segments of this proceeding. See 2010-2012 Final Results, 79 FR at 99 and 2012-2013 Final Results, 79 FR at 78786. See also Yangzhou Bestpak Gifts & Crafts Co., Ltd. v. United States, 716 F.3d 1370, 1374 (Fed. Cir. 2013) (recognizing and affirmatively discussing the Department's normal methodology for calculating a separate rate).

¹⁴ See 2013-2014 Final Results, 80 FR at 75063.

¹⁵ See Letter from Xin Wei to the Department, “Aluminum Extrusions from the People's Republic of China: Certification of No Sales, Shipments, or Entries,” dated July 22, 2015 and Letter from Permasteelisa Hong Kong Limited and Permasteelisa South China Factory, “Aluminum Extrusions From the People's Republic of China: Notice of No Sales,” dated July 28, 2015. While the Department issued standard no-shipment port inquiries for Xin Wei and Permasteelisa Hong Kong Limited, we did not do so with regard to Permasteelisa South China Factory because Permasteelisa South China Factory was not granted separate rate status in a prior segment of this proceeding. See, e.g., 2013-2014 Final Results, 80 FR at 75063, footnote 30.

Preliminary Determination of No Shipments

Two companies for which a review was requested and remain under review, Xin Wei and Permasteelisa Hong Kong Limited, timely submitted certifications indicating that they had no exports, sales, shipments, or entries of subject merchandise during the POR.¹⁵ Consistent with our practice, the Department requested that CBP conduct a query on potential shipments made by Xin Wei and Permasteelisa Hong Kong Limited during the POR; CBP provided no evidence that contradicted either Xin

Wei's or Permasteelisa Hong Kong Limited's claims of no shipments. Based on Xin Wei's and Permasteelisa Hong Kong Limited's no-shipment certifications and our analysis of the CBP information, we preliminarily determine that neither Xin Wei nor Permasteelisa Hong Kong Limited had shipments during the POR. However, consistent with our practice in NME cases, the Department is not rescinding this review, in part, but intends to complete the review with respect to Xin Wei and Permasteelisa Hong Kong Limited and issue appropriate instructions to CBP based on the final results of the review.¹⁶

¹⁶ See Non-Market Economy Antidumping Proceedings: Assessment of Antidumping Duties, 76 FR 65694, 65695 (October 24, 2011).

Application of Adverse Facts Available

Pursuant to sections 776(a)(1) and 776(a)(2)(A), (B), (C), and (D) of the Act, the Department preliminarily finds that the use of facts otherwise available is warranted with respect to Jangho. On May 5, 2016, Jangho submitted a letter to the Department in which it announced its withdrawal from active participation as a mandatory respondent in the instant administrative review.¹⁷ By withdrawing from participation in this proceeding, Jangho withheld necessary information requested by the Department and therefore significantly impeded the proceeding. Furthermore, some of the information Jangho did provide prior to its withdrawal from this proceeding was not in the form and manner requested, and Jangho's withdrawal precludes verification of the information it did provide.

¹⁷ See Letter from Jangho to the Department, “2014-2015 Administrative Review of Aluminum Extrusions from the People's Republic of China,” dated May 5, 2016.

The Department also preliminarily finds that the use of facts otherwise available is warranted with respect to Guang Ya Group/Zhongya/Xinya in accordance with sections 776(a)(2)(A) and (C) of the Act. On November 23, 2015, Zhongya submitted a letter to the Department stating that it would not be responding to the Department's questionnaires.¹⁸ In addition, on November 25, 2015, Guang Ya Group submitted a letter informing the Department that it was withdrawing from participation in this review.¹⁹ As a result, Guang Ya Group/Zhongya/Xinya withheld information that was requested by the Department and thus significantly impeded the proceeding.

¹⁸ See Letter from Zhongya Aluminum Company Limited, Guangdong Zhongya Aluminium Company Limited, Zhongya Shaped Aluminum (HK) Holding Limited, and Karlton Aluminum Company Ltd. to the Department, “Aluminum Extrusions from China: Antidumping (AD) And Countervailing Duty (CVD) Questionnaires,” dated November 23, 2015.

¹⁹ See Letter from Guang Ya Group to the Department, dated November 25, 2015.

Further, pursuant to section 776(b) of the Act, the Department preliminarily determines that both Jangho and Guang Ya Group/Zhongya/Xinya failed to cooperate by not acting to the best of their abilities to comply with the Department's requests for information, and, thus, an adverse inference is warranted.

Because the Department preliminarily determines that Jangho and Guang Ya Group/Zhongya/Xinya failed to cooperate by not acting to the best of their abilities to comply with requests for information, we have determined that they are not eligible for a separate rate.²⁰ Regarding Jangho, the Department preliminarily finds that the record contains numerous deficiencies because Jangho did not respond to a supplemental questionnaire issued by the Department; therefore, the record does not contain the information necessary to make a separate rate determination. Guang Ya Group/Zhongya/Xinya, on the other hand, failed to provide a response to the Department's antidumping questionnaire at all. As such, separate rates are not warranted for Jangho or Guang Ya Group/Zhonya/Xinya.

²⁰ See section 776(b) of the Act.

PRC-Wide Entity

As the Department preliminarily determines, based on AFA, that Jangho and Guang Ya Group/Zhongya/Xinya are not eligible for a separate rate, we determine that both companies are part of the PRC-wide entity.

In addition, 21 companies still subject to these preliminary results (listed above) are not eligible for separate-rate status because they did not submit separate-rate applications or certifications. Two additional companies still under review, Atlas and Genimex, submitted separate-rate applications that did not demonstrate eligibility for a separate rate. As a result, the Department preliminarily finds these 23 companies are also part of the PRC-wide entity.

The Department's change in policy regarding conditional review of the PRC-wide entity applies to this administrative review.²¹ Under this policy, the PRC-wide entity will not be under review unless a party specifically requests, or the Department self-initiates, a review of the entity. Because no party requested a review of the PRC-wide entity in this review, the entity is not under review and the entity's rate from the previous administrative review (i.e., 33.28 percent) is not subject to change.²²

²¹ See Antidumping Proceedings: Announcement of Change in Department Practice for Respondent Selection in Antidumping Duty Proceedings and Conditional Review of the Nonmarket Economy Entity in NME Antidumping Duty Proceedings, 78 FR 65963, 65970 (November 4, 2013) (Conditional Review of NME Entity Notice).

²² See 2013-2014 Final Results, 80 FR at 75063.

Methodology

The Department is conducting this review in accordance with section 751(a)(1)(B) of the Act. For a full description of the methodology underlying our preliminary results, see the Preliminary Decision Memorandum, dated concurrently with these results and hereby adopted by this notice. A list of the topics included in the Preliminary Decision Memorandum is included as an appendix to this notice. The Preliminary Decision Memorandum is a public document and is on file electronically via Enforcement and Compliance's Antidumping and Countervailing Duty Centralized Electronic Service System (ACCESS). ACCESS is available to registered users at http://access.trade.gov and to all parties in the Central Records Unit, Room B8024 of the main Department of Commerce building. In addition, parties can obtain a complete version of the Preliminary Decision Memorandum on the Internet at http://enforcement.trade.gov/frn/index.html. The signed Preliminary Decision Memorandum and the electronic version of the Preliminary Decision Memorandum are identical in content.

Adjustments for Countervailable Subsidies

Because no mandatory respondent established eligibility for an adjustment under section 777A(f) of the Act for countervailable domestic subsidies, for these preliminary results, the Department did not make an adjustment pursuant to section 777A(f) of the Act for countervailable domestic subsidies for the separate-rate recipients.

Pursuant to section 772(c)(1)(C) of the Act, the Department made an adjustment for countervailable export subsidies for the separate-rate recipients. Specifically, we adjusted the assigned separate rate by deducting the simple average of the countervailable export subsidies determined for the individually-examined respondents in the 2013 (i.e., most recently completed) countervailing duty administrative review.²³

²³ See Aluminum Extrusions From the People's Republic of China: Final Results, and Partial Rescission of Countervailing Duty Administrative Review; 2013, 80 FR 77325 (December 14, 2015) and Aluminum Extrusions From the People's Republic of China: Amended Final Results of Countervailing Duty Administrative Review; 2013, 81 FR 15238 (March 22, 2016), as corrected in Aluminum Extrusions from the People's Republic of China: Notice of Correction to Amended Final Results of Countervailing Duty Administrative Review; 2013, 81 FR 31227 (May 18, 2016). See also Preliminary Decision Memorandum for the calculation of the countervailable export subsidies deducted from the assigned separate rate.

For the PRC-wide entity, since the entity is not currently under review, its rate is not subject to change.²⁴

²⁴ See Conditional Review of NME Entity Notice, 78 FR at 65970. As the rate for the PRC-wide entity is not subject to change in the instant review, the adjusted margin we are applying to the PRC-wide entity in the instant review, 33.18 percent, is net of the countervailable domestic and export subsidies determined in the 2012-2013 Final Results. See 2012-2013 Final Results, 79 FR at 78787; see also 2013-2014 Final Results, 80 FR at 75063, footnote 27.

Preliminary Results of Review

The Department preliminarily determines that the following weighted-average dumping margins exist for the 2014-2015 POR:

Exporter | Weighted- average dumping margin (percent) | Margin adjusted for liquidation and cash deposit purposes (percent)
Allied Maker Limited | 86.01 | 85.94
Birchwoods (Lin'an) Leisure Products Co., Ltd. | 86.01 | 85.94
Changzhou Changzheng Evaporator Co., Ltd. | 86.01 | 85.94
Dongguan Aoda Aluminum Co., Ltd. | 86.01 | 85.94
JMA (HK) Company Limited | 86.01 | 85.94
Kam Kiu Aluminium Products Sdn Bhd ²⁵ | 86.01 | 85.94
Metaltek Group Co., Ltd. | 86.01 | 85.94
Tianjin Jinmao Import & Export Corp., Ltd. | 86.01 | 85.94

Additionally, the Department preliminarily determines that the following companies are part of the PRC-wide entity: Jangho (which includes Guangzhou Jangho Curtain Wall System Engineering Co., Ltd. and Jangho Curtain Wall Hong Kong Ltd.); Guang Ya Group/Zhongya/Xinya (which includes Guang Ya Aluminium Industries Co., Ltd.; Foshan Guangcheng Aluminium Co., Ltd.; Kong Ah International Company Limited; Guang Ya Aluminium Industries (Hong Kong) Ltd.; Guangdong Zhongya Aluminium Company Limited; Zhongya Shaped Aluminium (HK) Holding Limited; Karlton Aluminum Company Ltd.; and Xinya Aluminum & Stainless Steel Product Co., Ltd.); Atlas Integrated Manufacturing Ltd.; Belton (Asia) Development Ltd.; Classic & Contemporary Inc.; Danfoss Micro Channel Heat Exchanger (Jia Xing) Co., Ltd.; Dongguan Golden Tiger Hardware Industrial Co., Ltd.; Ever Extend Ent. Ltd.; Fenghua Metal Product Factory; FookShing Metal & Plastic Co. Ltd.; Foshan Golden Source Aluminum Products Co., Ltd.; Genimex Shanghai, Ltd.; Global Point Technology (Far East) Limited; Gold Mountain International Development Limited; Golden Dragon Precise Copper Tube Group, Inc.; Hebei Xusen Wire Mesh Products Co., Ltd.; Jackson Travel Products Co., Ltd.; New Zhongya Aluminum Factory; Shanghai Automobile Air-Conditioner Accessories Co., Ltd.; Southwest Aluminum (Group) Co., Ltd.; Suzhou NewHongJi Precision Part Co., Ltd.; Union Aluminum (SIP) Co.; Whirlpool Canada L.P.; Whirlpool Microwave Products Development Ltd.; and Xin Wei Aluminum Co. The rate previously established for the PRC-wide entity in the previous administrative review is 33.28 percent.²⁶

²⁵ Although the Department initiated a review for both Taishan City Kam Kiu Aluminium Extrusion Co., Ltd. and Kam Kiu Aluminium Products Sdn Bhd, it is apparent from the company's separate-rate application that Kam Kiu Aluminium Products Sdn Bhd is the exporter and Taishan City Kam Kiu Aluminium Extrusion Co., Ltd. is a producer only; thus, Kam Kiu Aluminium Products Sdn Bhd is the appropriate party to grant the separate rate status.

²⁶ See 2013-2014 Final Results, 80 FR at 75063.

Public Comment

Interested parties may submit case briefs no later than 30 days after the date of publication of these preliminary results of review.²⁷ Rebuttal briefs, limited to issues raised in the case briefs, may be filed no later than five days after the case briefs are filed.²⁸ Parties who submit arguments are requested to submit with the argument (a) a statement of the issue, (b) a brief summary of the argument, and (c) a table of authorities.²⁹ Parties submitting briefs should do so pursuant to the Department's electronic filing requirements.

²⁷ See 19 CFR 351.309(c)(1)(ii).

²⁸ See 19 CFR 351.309(d)(1)-(2).

²⁹ See 19 CFR 351.309(c)(2) and (d)(2).

Any interested party may request a hearing within 30 days of publication of this notice.³⁰ Hearing requests should contain the following information: (1) The party's name, address, and telephone number; (2) the number of participants; and (3) a list of the issues to be discussed. Oral presentations will be limited to issues raised in the case and rebuttal briefs. If a request for a hearing is made, parties will be notified of the time and date for the hearing to be held at the U.S. Department of Commerce, 14th Street and Constitution Avenue NW., Washington, DC 20230.³¹

³⁰ See 19 CFR 351.310(c).

³¹ See 19 CFR 351.310(d).

Unless extended, the Department intends to issue the final results of this administrative review, which will include the results of our analysis of all issues raised in the case briefs, within 120 days of publication of these preliminary results in the Federal Register, pursuant to section 751(a)(3)(A) of the Act.

Assessment Rates

Upon issuance of the final results of this review, the Department will determine, and CBP shall assess, antidumping duties on all appropriate entries covered by this review.³² The Department intends to issue assessment instructions to CBP 15 days after publication of the final results of this review.

³² See 19 CFR 351.212(b)(1).

We intend to instruct CBP to liquidate entries containing subject merchandise exported by the PRC-wide entity at the PRC-wide rate. Additionally, if the Department determines that an exporter under review had no shipments of the subject merchandise, any suspended entries that entered under that exporter's case number will be liquidated at the PRC-wide rate.³³

³³ See Non-Market Economy Antidumping Proceedings: Assessment of Antidumping Duties, 76 FR 65694 (October 24, 2011).

For the companies for which this review is rescinded, antidumping duties shall be assessed at rates equal to the cash deposit of estimated antidumping duties required at the time of entry, or withdrawal from warehouse, for consumption, in accordance with 19 CFR 351.212(c)(1)(i). We will instruct CBP accordingly.

Cash Deposit Requirements

The following cash deposit requirements for estimated antidumping duties, when imposed, will apply to all shipments of subject merchandise from the PRC entered, or withdrawn from warehouse, for consumption on or after the publication of the final results of this administrative review, as provided by section 751(a)(2)(C) of the Act: (1) If the companies preliminarily determined to be eligible for a separate rate receive a separate rate in the final results of this administrative review, their cash deposit rate will be equal to the weighted-average dumping margin established in the final results of this review, as adjusted for domestic and export subsidies (except, if that rate is de minimis, then the cash deposit rate will be zero); (2) for any previously investigated or reviewed PRC and non-PRC exporters that are not under review in this segment of the proceeding but that received a separate rate in the most recently completed segment of this proceeding, the cash deposit rate will continue to be the exporter-specific rate published for the most recently completed segment of this proceeding; (3) for all PRC exporters of subject merchandise that have not been found to be entitled to a separate rate, the cash deposit rate will be that for the PRC-wide entity, which is 33.18 percent; ³⁴ and (4) for all non-PRC exporters of subject merchandise which have not received their own rate, the cash deposit rate will be the rate applicable to the PRC exporter that supplied that non-PRC exporter.

³⁴ See 2012-2013 Final Results, 79 FR at 78787. This rate is adjusted for export and domestic subsidies, as appropriate.

These cash deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

Notification to Interested Parties

We are issuing and publishing notice of these preliminary results in accordance with sections 751(a)(1) and 777(i)(1) of the Act and 19 CFR 351.221(b)(4).

Dated: June 6, 2016.
Paul Piquado,
Assistant Secretary for Enforcement and Compliance.

Appendix I—List of Topics Discussed in the Preliminary Decision Memorandum

1. Summary

2. Background

3. Respondent Selection

4. Rescission of Administrative Review in Part

5. Scope of the Order

6. Affiliation and Collapsing

7. Preliminary Determination of No Shipments

8. Non-Market Economy Country

9. Separate Rates

10. Separate-Rate Recipients

11. Preliminary Determination of Rate for Non-Examined Separate-Rate Recipients

12. The PRC-Wide Entity

13. Application of Facts Available and Use of Adverse Inference

14. Adjustments for Countervailable Subsidies

15. Conclusion

Appendix II—Companies for Which This Administrative Review Is Being Rescinded

1. Acro Import and Export Co.

2. Activa International Inc.

3. Alnan Aluminium Co., Ltd.

4. Aluminicaste Fundicion de Mexico

5. Bracalente Metal Products (Suzhou) Co., Ltd.

6. Changshu Changsheng Aluminium Products Co., Ltd.

7. Changzhou Tenglong Auto Parts Co., Ltd.

8. China Zhongwang Holdings, Ltd.

9. Chiping One Stop Industrial & Trade Co., Ltd.

10. Clear Sky Inc.

11. Cosco (J.M.) Aluminium Co., Ltd.

12. Dongguan Dazhan Metal Co., Ltd.

13. Dragonluxe Limited

14. Dynamic Technologies China Ltd.

15. Dynabright Int'l Group (HK) Limited

16. First Union Property Limited

17. Foreign Trade Co. of Suzhou New & High-Tech Industrial Development Zone

18. Foshan City Nanhai Hongjia Aluminum Alloy Co., Ltd.

19. Foshan Jinlan Aluminum Co., Ltd.

20. Foshan JMA Aluminum Company Limited

21. Foshan Sanshui Fenglu Aluminium Co., Ltd.

22. Foshan Shunde Aoneng Electrical Appliances Co., Ltd.

23. Foshan Yong Li Jian Aluminum Co., Ltd.

24. Fujian Sanchuan Aluminum Co., Ltd.

25. Global PMX Dongguan Co., Ltd.

26. Gran Cabrio Capital Pte. Ltd.

27. Gree Electric Appliances

28. GT88 Capital Pte. Ltd.

29. Guangdong Hao Mei Aluminium Co., Ltd.

30. Guangdong Jianmei Aluminum Profile Company Limited

31. Guangdong JMA Aluminum Profile Factory (Group) Co., Ltd.

32. Guangdong Nanhai Foodstuffs Imp. & Exp. Co., Ltd.

33. Guangdong Weiye Aluminum Factory Co., Ltd.

34. Guangdong Whirlpool Electrical Appliances Co., Ltd.

35. Guangdong Xingfa Aluminium Co., Ltd.

36. Guangdong Xin Wei Aluminum Products Co., Ltd.

37. Guangdong Yonglijian Aluminum Co., Ltd.

38. Guangzhou Mingcan Die-Casting Hardware Products Co., Ltd.

39. Hangzhou Xingyi Metal Products Co., Ltd.

40. Hanwood Enterprises Limited

41. Hanyung Alcoba Co., Ltd.

42. Hanyung Alcobis Co., Ltd.

43. Hanyung Metal (Suzhou) Co., Ltd.

44. Hao Mei Aluminum Co., Ltd.

45. Hao Mei Aluminum International Co., Ltd.

46. Henan New Kelong Electrical Appliances Co., Ltd.

47. Hong Kong Gree Electric Appliances Sales Limited

48. Honsense Development Company

49. Hui Mei Gao Aluminum Foshan Co., Ltd.

50. IDEX Dinglee Technology (Tianjin) Co., Ltd.

51. IDEX Technology Suzhou Co., Ltd.

52. IDEX Health

53. Innovative Aluminium (Hong Kong) Limited

54. iSource Asia

55. Jiangmen Qunxing Hardware Diecasting Co., Ltd.

56. Jiangsu Changfa Refrigeration Co., Ltd.

57. Jiangyin Trust International Inc.

58. Jiangyin Xinhong Doors and Windows Co., Ltd.

59. Jiaxing Jackson Travel Products Co., Ltd.

60. Jiaxing Taixin Metal Products Co., Ltd.

61. Jiuyan Co., Ltd.

62. Justhere Co., Ltd.

63. Kanal Precision Aluminum Product Co., Ltd.

64. Kromet International, Inc.

65. Kunshan Giant Light Metal Technology Co., Ltd.

66. Liaoning Zhongwang Group Co., Ltd.

67. Liaoyang Zhongwang Aluminum Profile Co., Ltd.

68. Longkou Donghai Trade Co., Ltd.

69. Metaltek Metal Industry Co., Ltd.

70. Midea Air Conditioning Equipment Co., Ltd.

71. Midea International Training Co., Ltd./Midea International Trading Co., Ltd.

72. Miland Luck Limited

73. Nanhai Textiles Import & Export Co., Ltd.

74. New Asia Aluminum & Stainless Steel Product Co., Ltd.

75. Nidec Sankyo (Zhejang) Corporation

76. Nidec Sankyo Singapore Pte. Ltd.

77. Ningbo Coaster International Co., Ltd.

78. Ningbo Hi Tech Reliable Manufacturing Company

79. Ningbo Ivy Daily Commodity Co., Ltd.

80. Ningbo Yili Import and Export Co., Ltd.

81. North China Aluminum Co., Ltd.

82. North Fenghua Aluminum Ltd.

83. Northern States Metals

84. PanAsia Aluminium (China) Limited

85. Pengcheng Aluminum Enterprise Inc.

86. Pingguo Aluminum Company Limited

87. Pingguo Asia Aluminum Co., Ltd.

88. Popular Plastics Co., Ltd.

89. Press Metal International Ltd.

90. Samuel, Son & Co., Ltd.

91. Sanchuan Aluminum Co., Ltd.

92. Shangdong Huasheng Pesticide Machinery Co.

93. Shangdong Nanshan Aluminum Co., Ltd.

94. Shanghai Canghai Aluminum Tube Packaging Co., Ltd.

95. Shanghai Dongsheng Metal

96. Shanghai Shen Hang Imp & Exp Co., Ltd.

97. Shanghai Tongtai Precise Aluminum Alloy Manufacturing Co., Ltd.

98. Shenyang Yuanda Aluminium Industry Engineering Co., Ltd.

99. Shenzhen Hudson Technology Development Co.

100. Shenzhen Jiuyuan Co., Ltd.

101. Sihui Shi Guo Yao Aluminum Co., Ltd.

102. Sincere Profit Limited

103. Skyline Exhibit Systems (Shanghai) Co., Ltd.

104. Suzhou JRP Import & Export Co., Ltd.

105. TAI-AO Aluminium (Taishan) Co., Ltd.

106. Taizhou Lifeng Manufacturing Co., Ltd.

107. Taizhou United Imp. & Exp. Co., Ltd.

108. tenKsolar (Shanghai) Co., Ltd.

109. Tianjin Ganglv Nonferrous Metal Materials Co., Ltd.

110. Tianjin Ruixin Electric Heat Transmission Technology, Ltd.

111. Tianjin Xiandai Plastic & Aluminum Products Co., Ltd.

112. Tiazhou Lifeng Manufacturing Corporation/Taizhou Lifeng Manufacturing Corporation, Ltd.

113. Top-Wok Metal Co., Ltd.

114. Traffic Brick Network, LLC

115. Union Industry (Asia) Co., Ltd.

116. USA Worldwide Door Components (PINGHU) Co., Ltd.

117. Wenzhou Shengbo Decoration & Hardware

118. Whirlpool (Guangdong)

119. WTI Building Products, Ltd.

120. Zahoqing China Square Industry Limited/Zhaoqing China Square Industry Limited

121. Zhaoqing Asia Aluminum Factory Company Ltd.

122. Zhaoqing China Square Industrial Ltd.

123. Zhejiang Anji Xinxiang Aluminum Co., Ltd.

124. Zhejiang Yongkang Listar Aluminium Industry Co., Ltd.

125. Zhejiang Zhengte Group Co., Ltd.

126. Zhenjiang Xinlong Group Co., Ltd.

127. Zhongshan Daya Hardware Co., Ltd.

128. Zhongshan Gold Mountain Aluminium Factory Ltd.

129. Zhuhai Runxingtai Electrical Equipment Co., Ltd.

[FR Doc. 2016-14046 Filed 6-13-16; 8:45 am]

BILLING CODE 3510-DS-P